DEPARTMENT OF AGRICULTURE

Agricultural Marketing Service

[Docket # AMS-FV-2007-0007; FV-06-309]

United States Standards for Grades of Tomatoes on the Vine

AGENCY: Agricultural Marketing Service, USDA.

ACTION: Reopening and extension of the comment period.

SUMMARY: Notice is hereby given that the comment period on possible development of United States Standards for Grades of Tomatoes on the Vine is reopened and extended.

DATES: Comments must be received by August 21, 2007.

ADDRESSES: Interested persons are invited to submit written comments on the Internet at: http://www.regulations.gov or the Standardization Section, Fresh Products Branch, Fruit and Vegetable Programs, Agricultural Marketing Service, U.S. Department of Agriculture; 1400 Independence Avenue, SW., Room 1661 South Building, Stop 0240, Washington DC 20250-0240; or fax (202) 720-8871. Comments should make reference to the dates and page number of this issue of the Federal Register and will be made available for public inspection in the above office during regular business hours.

FOR FURTHER INFORMATION CONTACT: Vincent J. Fusaro, Standardization Section, Fresh Products Branch, (202) 720-2185. The proposed United States Standards for Grades of Tomatoes on the Vine are available through the Fresh Products Branch Web site at: http://www.ams.usda.gov/standards/stanfrfv.htm.

SUPPLEMENTARY INFORMATION: A notice was published in the Federal Register on February 16, 2007 (72 FR 7593), requesting comments on the possible development of the United States Standards for Grades of Tomatoes on the Vine. The proposed standards would provide industry with a common language and uniform basis for trading, thus promoting the orderly and efficient marketing of tomatoes on the vine. Additionally, the Agricultural Marketing Service (AMS) also sought any comments related to the proposed standards that may be necessary to better serve the industry. The comment period ended April 17, 2007.

A comment was received on behalf of a trade group representing growers and packers, expressing the need for additional time to comment. The group requested an extension to the comment period to allow review of the proposed voluntary standards and consider comments.

After reviewing the request, AMS is reopening and extending the comment period in order to allow sufficient time for interested persons, including growers, packers, and trade groups to file comments.

Authority: 7 U.S.C. 1621-1627.

Dated: June 18, 2007.
Lloyd C. Day,
Administrator, Agricultural Marketing Service.

[FR Doc. E7-12064 Filed 6-21-07; 8:45 am]

BILLING CODE 3410-02-P